DEPARTMENT OF ENERGY

Federal Energy Regulatory Commission

[Project No. 2684-010]

Flambeau Hydro, LLC; Notice of Application Tendered for Filing With the Commission and Establishing Procedural Schedule for Licensing and Deadline for Submission of Final Amendments

Take notice that the following hydroelectric application has been filed with the Commission and is available for public inspection.

a. Type of Application: Subsequent Minor License.

b. Project No.: 2684-010.

c. Date Filed: April 26, 2017.

d. Applicant: Flambeau Hydro, LLC (Flambeau Hydro).

e. Name of Project: Arpin Hydroelectric Project.

f. Location: On the Chippewa River in Sawyer County, Wisconsin. There are no federal or tribal lands within the project boundary.

g. Filed Pursuant to: Federal Power Act 16 U.S.C. 791(a)-825(r).

h. Applicant Contact: Mr. Jason Kreuscher, Renewable World Energies, LLC, 100 State Street, P.O. Box 264, Neshkoro, WI 54960; (855) 994-9376, ext. 102.

i. FERC Contact: Amy Chang, (202) 502-8250 or amy.chang@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 25, 2017.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2684-010.

m. This application is not ready for environmental analysis at this time.

n. The existing Arpin Hydroelectric Project consists of: (1) A 742.5-foot-long masonry dam (West dam) that includes: (a) A 120.5-foot-long ungated, non-overflow section; (b) a 318.9-foot-long overflow spillway with a crest elevation of 1,227.55 feet North American Vertical Datum of 1988 (NAVD 88); and (c) a 303.1-foot long gated section that includes a 16.9-foot-wide timber stoplog spillway and a 15.9-foot-wide timber stoplog spillway; (2) a 452.2-foot-long masonry dam (Middle dam) that includes: (a) A 63.5-foot-long ungated, non-overflow section; (b) a 237.9-foot-long overflow spillway with a crest elevation of 1,227.65 feet NAVD 88; and (c) a 150.8-foot-long gated section that includes two 19.5-foot-wide steel vertical lift gates; (3) a 319.8-foot-long masonry dam (East dam) that includes: (a) A 25.5-foot long ungated, non-overflow section; (b) a 108-foot-long overflow spillway with a crest elevation of 1,227.8 feet NAVD 88; and (c) a 186.3-foot-long gated section that includes a 15.9-foot-wide, 6.25-foot-tall tainter gate and a 16.3-foot-wide, 6.25-foot-tall tainter gate; (4) a 294-acre impoundment with a normal maximum elevation of 1,227.32 feet NAVD 88; (5) a 3,200-foot-long, 60-foot-wide, 9- to 14-foot-deep earthen embankment power canal that includes 37-foot-long, 11.5-foot-wide, 14-foot-deep headworks; (6) a 48-foot-long, 13.5-foot-wide, 14.5-foot-tall concrete forebay and intake area that includes inclined trash racks with 2-inch spacing and three metal slide gates; (7) a 79-foot-long, 7-foot-diameter steel penstock and two 79-foot-long, 8-foot-diameter steel penstocks, each dedicated to a single turbine-generator unit; (8) a 52-foot-wide, 24-foot-long, 25-foot-tall cement block powerhouse containing two 600-kilowatt (kW) and one 250-kW vertical Francis turbine-generator units for a total capacity of 1,450-kW; (9) a 15-foot-long, 2.4-kilovolt (kV) underground generator lead that connects the turbine-generator units to three step-up transformers; (10) a 3,645-foot-long, 22.9-kV overhead transmission line that connects the step-up transformers to the regional distribution line; and (11) appurtenant facilities.

Flambeau Hydro operates the project in a run-of-river mode with an annual average generation of approximately 7,336 megawatt-hours. Flambeau Hydro is not proposing any new project facilities or changes in project operation.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary Hydro Licensing Schedule. Revisions to the schedule will be made as appropriate.

Issue Deficiency Letter (if necessary) | July 2017.
Request Additional Information | July 2017.
Issue Acceptance Letter | October 2017.
Issue Scoping Document 1 for comments | October 2017.
Request Additional Information (if necessary) | December 2017.
Issue Scoping Document 2 | January 2018.
Issue notice of ready for environmental analysis | March 2018.
Commission issues EA or draft EA | September 2018.
Comments on EA or draft EA | October 2018.
Commission issues final EA | January 2019.

Final amendments to the application must be filed with the Commission no later than 30 days from the issuance date of the notice of ready for environmental analysis.

Dated: May 5, 2017.
Kimberly D. Bose,
Secretary.

[FR Doc. 2017-09624 Filed 5-11-17; 8:45 am]

BILLING CODE 6717-01-P